NUCLEAR REGULATORY COMMISSION

[Docket No. NRC-2009-0144]

Agency Information Collection Activities: Submission for the Office of Management and Budget (OMB) Review; Comment Request

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register Notice with a 60-day comment period on this information collection on April 8, 2009.

1. Type of submission, new, revision, or extension: Extension.

2. The title of the information collection: Export and Import of Nuclear Equipment and Material 10 CFR part 110.

3. Current OMB approval number: 3150-0036.

4. The form number if applicable: NRC Form 830 and NRC Form 831.

5. How often the collection is required: On occasion.

6. Who will be required or asked to report: Any person in the U.S. who wishes to export or import nuclear material or equipment subject to the requirements of a general or specific license.

7. An estimate of the number of annual responses: 946 (843 responses + 103 recordkeeping).

8. The estimated number of annual respondents: 103.

9. An estimate of the total number of hours needed annually to complete the requirement or request: 524.

10. Abstract: Persons in the U.S. who export or import nuclear material or equipment under a general or specific authorization must comply with certain reporting and recordkeeping requirements under 10 CFR part 110.

A copy of the final supporting statement may be viewed free of charge at the NRC Public Document Room, One White Flint North, 11555 Rockville Pike, Room O-1 F21, Rockville, MD 20852. OMB clearance requests are available at the NRC worldwide Web site: http://www.nrc.gov/public-involve/doc-comment/omb/index.html. The document will be available on the NRC home page site for 60 days after the signature date of this notice.

Comments and questions should be directed to the OMB reviewer listed below by September 2, 2009. Comments received after this date will be considered if it is practical to do so, but assurance of consideration cannot be given to comments received after this date. Christine J. Kymn, Office of Information and Regulatory Affairs (3150-0036), NEOB-10202, Office of Management and Budget, Washington, DC 20503.

Comments can also be e-mailed to Christine J. Kymn@omb.eop.gov or submitted by telephone at (202) 395-4638.

The NRC Clearance Officer is Tremaine Donnell, (301) 415-6258.

Dated at Rockville, Maryland, this 27th day of July 2009.
For the Nuclear Regulatory Commission.
Tremaine Donnell,
Acting NRC Clearance Officer, Office of Information Services.

[FR Doc. E9-18436 Filed 7-31-09; 8:45 am]

BILLING CODE 7590-01-P